DEPARTMENT OF THE INTERIOR

National Park Service

[NPS-WASO-NRNHL-DTS#-27975; PPWOCRADI0, PCU00RP14.R50000]

National Register of Historic Places; Notification of Pending Nominations and Related Actions

AGENCY: National Park Service, Interior.

ACTION: Notice.

SUMMARY: The National Park Service is soliciting comments on the significance of properties nominated before May 11, 2019, for listing or related actions in the National Register of Historic Places.

DATES: Comments should be submitted by June 12, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 11, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CONNECTICUT

Middlesex County

Shore Line Electric Railway Powerhouse, 2-20 Ferry Place, Old Saybrook, SG100004086

DELAWARE

Kent County

Downtown Harrington Historic District, Various, Harrington, SG100004082

New Castle County

Taylor's Bridge School, 121 Flemings Landing Rd., Townsend vicinity, SG100004079

Eleutherian Mills-Hagley Historic District (Boundary Increase), 200 Hagley Creek Rd., Wilmington, BC100004080

Sussex County

Allen, Richard, School, 316 Railroad Ave., Georgetown, SG100004083

KENTUCKY

Jefferson County

Reilly, J.J., Manufacturing Building, 1234 Rowan St., Louisville, SG100004097

MONTANA

Glacier County

Glacier Park Women's Club, SE Corner of US Highway 2 and Glacier Ave., East Glacier Park, SG100004092

NEW HAMPSHIRE

Coos County

Nansen Ski Jump, 83 Milan Rd., Milan, SG100004084

Grafton County

Camp Mowglis, 6 Mowglis Dr., Hebron, SG100004085

NEW YORK

Orange County

Hawkins, Jacob & Caroline, House, 3764 NY 208, Campbell Hall, SG100004088

Westchester County

Winged Foot Golf Club, 851 Fenimore Rd., Mamaroneck, SG100004089

TEXAS

Lavaca County

Yoakum Commercial Historic District, Yoakum, DeWitt and Lavaca Counties, Texas, Roughly bounded by Nelson St., South St., Culpepper St., and Forrest St., Yoakum, SG100004095

VIRGINIA

Lee County

Duff Mansion House, 4354 Kane Gap Rd., Duffield, SG100004096

Additional documentation has been received for the following resources:

DELAWARE

New Castle County

Eleutherian Mills-Hagley Historic District (Boundary Increase), 200 Hagley Creek Rd., Wilmington, AD100004080

DISTRICT OF COLUMBIA

District of Columbia

Folger Shakespeare Library, 201 E. Capitol St. SE, Washington, AD69000294

Nomination submitted by Federal Preservation Officers:

The State Historic Preservation Officer reviewed the following nomination and responded to the Federal Preservation Officer within 45 days of receipt of the nomination and supports listing the property in the National Register of Historic Places.

TENNESSEE

Cocke County

Mount Cammerer Fire Lookout, (Great Smoky Mountains National Park MPS), Great Smoky Mountains National Park (GRSM)—end of Mount Cammerer, Cosby, MP100004091

Authority: Section 60.13 of 36 CFR part 60.

Dated: May 16, 2019.
Kathryn G. Smith,
Acting Chief, National Register of Historic Places/National Historic Landmarks Program.

[FR Doc. 2019-11052 Filed 5-24-19; 8:45 am]

BILLING CODE 4312-52-P